DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping and countervailing duty orders and findings with February anniversary dates. In accordance with Commerce's regulations, we are initiating those administrative reviews.

DATES: Applicable May 2, 2019.

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various antidumping and countervailing duty orders and findings with February anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at http://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act:

In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this antidumping proceeding (e.g., investigation, administrative review, new shipper review or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at http://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Status Application will be available on Commerce's website at http://enforcement.trade.gov/nme/nme-sep-rate.html on the date of publication of this Federal Register notice. In responding to the Separate Rate Status Application, refer to the instructions contained in the application. Separate Rate Status Applications are due to Commerce no later than 30 calendar days of publication of this Federal Register notice. The deadline and requirement for submitting a Separate Rate Status Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews: In accordance with 19 CFR 351.221(c)(1)(i), we are initiating administrative reviews of the following antidumping and countervailing duty orders and findings. We intend to issue the final results of these reviews not later than February 29, 2020.

| Period to be reviewed
Antidumping Duty Proceedings
MEXICO: Large Residential Washers, A-201-842 | 2/1/18-1/31/19
Electrolux Home Products de Mexico, S.A. de C.V.
Electrolux Home Products Corp. NV.
INDIA: Certain Frozen Warmwater Shrimp, A-533-840 | 2/1/18-1/31/19
Abad Fisheries.
Akshay Food Impex Private Limited.
Alashore Marine Exports (P) Ltd.
Albys Agro Private Limited.
Allana Frozen Foods Pvt. Ltd.
Allanasons Ltd.
Alpha Marine.
Amarsagar Seafoods Private Limited.
AMI Enterprises.
Amulya Seafoods.
Ananda Aqua Applications/Ananda Aqua Exports (P) Limited/Ananda Foods.⁵
Ananda Enterprises (India) Private Limited.
Anatha Seafoods Private Limited.
Angelique International Ltd.
Anjaneya Seafoods.
Apex Frozen Foods Private Limited.⁶
Aquatica Frozen Foods Global Pvt. Ltd.
Arya Sea Foods Private Limited.
Asvini Exports.
Asvini Fisheries Ltd/Asvini Fisheries Private Ltd.⁷
Avanti Frozen Foods Private Limited.⁸
Ayshwarya Seafood Private Limited.
B R Traders.
Baby Marine Eastern Exports.
Baby Marine Exports.
Baby Marine International.
Baby Marine Sarass.
Baby Marine Ventures.
Belasore Marine Exports Private Limited.
Bell Exim Private Limited (Bell Foods (Marine Division).
Bell Exim Pvt. Ltd.
Bhatsons Aquatic Products.
Bhavani Seafoods.
Bijaya Marine Products.
Blue Fin Frozen Foods Pvt. Ltd.
Blue Water Foods & Exports P. Ltd.
Bluepark Seafoods Pvt. Ltd.
BMR Exports.
BMR Industries Private Limited.
B-One Business House Pvt. Ltd.
Britto Seafood Exports Pvt Ltd.
C.P. Aquaculture (India) Pvt. Ltd.
Calcutta Seafoods Pvt. Ltd./Bay Seafood Pvt. Ltd./Elque & Co.⁹
Canaan Marine Products.
Capithan Exporting Co.
Cargomar Private Limited.
Castlerock Fisheries Ltd.
Chakri Fisheries Private Limited.
Chemmeens (Regd).
Cherukattu Industries (Marine Div).
Choice Trading Corporation Pvt. Ltd.
Coastal Aqua.
Coastal Aqua Private Limited.¹⁰
Coastal Corporation Ltd.
Cochin Frozen Food Exports Pvt. Ltd.
Continental Fisheries India Private Limited.
Coreline Exports.
Corlim Marine Exports Pvt. Ltd.
Crystal Sea Foods Private Limited.
D2 D Logistics Private Limited.
Damco India Private.
Delsea Exports Pvt. Ltd.
Devi Fisheries Limited/Satya Seafoods Private Limited/Usha Seafoods/Devi Aquatech Private Limited.¹¹
Devi Marine Food Exports Private Ltd/Kader Exports Private Limited/Kader Investment and Trading Company Private Limited/Liberty Frozen Foods Pvt. Ltd./Liberty Oil Mills Ltd/Premier Marine Products Private Limited/Universal Cold Storage Private Limited.¹²
Devi Sea Foods Limited.¹³
Diamond Seafoods Exports/Edhayam Frozen Foods Pvt. Ltd/Kadalkanny Frozen Foods/Theva & Company.¹⁴
Entel Food Products Private Limited.
Esmario Export Enterprises.
Everblue Sea Foods Private Limited.
Exporter Coreline Exports.
Falcon Marine Exports Limited/KR Enterprises.¹⁵
Febin Marine Foods.
Five Star Marine Exports Private Limited.
Forstar Frozen Foods Pvt. Ltd.
Fouress Food Products Private Limited.
Frontline Exports Pvt. Ltd.
G A Randerian Ltd.
Gadre Marine Exports.
Galaxy Maritech Exports P. Ltd.
Geo Aquatic Products (P) Ltd.
Geo Seafoods.
Goodwill Enterprises.
Grandtrust Overseas (P) Ltd.
Green House Agro Products.
Growel Processors Private Limited.
GVR Exports Pvt. Ltd.
Hari Marine Private Limited.
Haripriya Marine Export Pvt. Ltd.
Harmony Spices Pvt. Ltd.
HIC ABF Special Foods Pvt. Ltd.
Hindustan Lever, Ltd.
Hiravata Ice & Cold Storage.
Hiravati Exports Pvt. Ltd.
Hiravati International Pvt. Ltd. (located at APM-Mafco Yard, Sector-18, Vashi, Navi, Mumbai-400 705, India).
Hiravati International Pvt. Ltd. (located at Jawar Naka, Porbandar, Gujarat, 360 575, India).
Hiravati Marine Products Private Limited.
HN Indigos Private Limited.
Hyson Logistics and Marine Exports Private Limited.
IFB Agro Industries Limited.
Indian Aquatic Products.
Indo Aquatics.
Indo Fisheries.
Indo French Shellfish Company Private Limited.
Innovative Foods Limited.
International Freezefish Exports.
Interseas.
ITC Limited, International Business.
ITC Ltd.
Jagadeesh Marine Exports.
Jayalakshmi Sea Foods Pvt. Ltd.
Jinny Marine Traders.
Jiya Packagings.
K V Marine Exports.
Kalyan Aqua & Marine Exp. India Pvt. Ltd.
Kalyanee Marine.
Kanch Ghar.
Karunya Marine Exports Private Limited.
Kaushalya Aqua Marine Product Exports Pvt. Ltd.
Kay Kay Exports.
Kings Marine Products.
KNC Agro Pvt. Ltd.
Koluthara Exports Ltd.
Landauer Ltd.
Libran Cold Storages (P) Ltd.
Magnum Export.
Magnum Sea Foods Limited/Magnum Estates Limited.¹⁶
Malabar Arabian Fisheries.
Malnad Exports Pvt. Ltd.
Mangala Marine Exim India Pvt. Ltd.
Mangala Sea Products.
Mangala Seafoods.
Marine Harvest India.
Meenaxi Fisheries Pvt. Ltd.
Megaa Moda Pvt. Ltd.
Milesh Marine Exports Private Limited.
Milsha Agro Exports Private Limited.
Monsun Foods Pvt. Ltd.
Mourya Aquex Pvt. Ltd.
MTR Foods.
Munnangi Seafoods (Pvt) Ltd.
N.C. John & Sons (P) Ltd.
Naga Hanuman Fish Packers.
Naik Frozen Foods.
Naik Oceanic Exports Pvt. Ltd./Rafiq Naik Exports Pvt. Ltd.¹⁷
Naik Seafoods Ltd.
Neeli Aqua Private Limited.
Nekkanti Sea Foods Limited.
Nezami Rekha Sea Foods Private Limited.
Nila Sea Foods Exports.
Nila Sea Foods Pvt. Ltd.
Nine Up Frozen Foods.
Nutrient Marine Foods Limited.
Oceanic Edibles International Limited.
Paragon Sea Foods Pvt. Ltd.
Paramount Seafoods.
Parayil Food Products Pvt., Ltd.
Pasupati Aquatics Private Limited.
Penver Products (P) Ltd.
Pesca Marine Products Pvt., Ltd.
Pijikay International Exports P Ltd.
Pisces Seafoods International.
Pravesh Seafood Private Limited.
Premier Exports International.
Premier Marine Foods.
Premier Seafoods Exim (P) Ltd.
R F Exports.
R V R Marine Products Limited.
Raa Systems Pvt. Ltd.
Raju Exports.
Ram's Assorted Cold Storage Ltd.
Raunaq Ice & Cold Storage.
Raysons Aquatics Pvt. Ltd.
Razban Seafoods Ltd.
RBT Exports.
RDR Exports.
RF Exports Private Limited.
Riviera Exports Pvt. Ltd.
Rohi Marine Private Ltd.
Royal Imports and Exports.
Royale Marine Impex Private Limited.
RSA Marines.
S & S Seafoods.
S Chanchala Combines.
SA Exports.
Safa Enterprises.
Sagar Foods.
Sagar Grandhi Exports Pvt. Ltd.
Sagar Samrat Seafoods.
Sagravihar Fisheries Pvt. Ltd.
Sai Marine Exports Pvt. Ltd.
Sai Sea Foods.
Salvam Exports (P) Ltd.
Samaki Exports Private Limited.
Sanchita Marine Products P Limited.
Sandhya Aqua Exports.
Sandhya Aqua Exports Pvt. Ltd.
Sandhya Marines Limited.
Santhi Fisheries & Exports Ltd.
Sarveshwari Exp.
Sea Foods Private Limited.
Sea Gold Overseas Pvt. Ltd.
Selvam Exports Private Limited.
Sharat Industries Ltd.
Sharma Industries.
Shimpo Exports Private Limited.
Shimpo Seafoods Private Limited.
Shiva Frozen Food Exp. Pvt. Ltd.
Shree Datt Aquaculture Farms Pvt. Ltd.
Shroff Processed Food & Cold Storage P Ltd.
Silver Seafood.
Sita Marine Exports.
Southern Tropical Foods Pvt. Ltd.
Sowmya Agri Marine Exports.
Sprint Exports Pvt. Ltd.
Sri Sakkthi Cold Storage.
Sri Venkata Padmavathi Marine Foods Pvt. Ltd.
Srikanth International.¹⁸
SSF Ltd.
Star Agro Marine Exports Private Limited.
Star Organic Foods Incorporated.
Star Organic Foods Private Limited.
Stellar Marine Foods Private Limited.
Sterling Foods.
Sun Agro Exim.
Sun-Bio Technology Ltd.
Sunrise Aqua Food Exports.¹⁹
Supran Exim Private Limited.
Suryamitra Exim (P) Ltd.
Suvarna Rekha Exports Private Limited.
Suvarna Rekha Marine P Ltd.
TBR Exports Pvt Ltd.
Teekay Marine P. Ltd.
The Waterbase Limited.
Triveni Fisheries P. Ltd.
U & Company Marine Exports.
Ulka Sea Foods Private Limited.
Uniroyal Marine Exports Ltd.
Unitriveni Overseas.
V V Marine Products.
V.S Exim Pvt Ltd.
Vasai Frozen Food Co.
Vasista Marine.
Veejay Impex.
Veerabhadra Exports Private Limited.
Veronica Marine Exports Private Limited.
Victoria Marine & Agro Exports Ltd.
Vinner Marine.
Vitality Aquaculture Pvt. Ltd.
VRC Marine Foods LLP.
Wellcome Fisheries Limited.
West Coast Fine Foods (India) Private Limited.
West Coast Frozen Foods Private Limited.
Z A Sea Foods Pvt. Ltd.
Zeal Aqua Limited.
INDIA: Stainless Steel Bar, A-533-810 | 2/1/18-1/31/19
Ambica Steels Limited.
Hindustan Inox Ltd.
Jindal Stainless Hisar Ltd.
Precision Metals.
Sieves Manufacturers (India) Pvt. Ltd.
Venus Group.
Venus Wire Industries Pvt. Ltd.
ITALY: Stainless Steel Butt-Weld Pipe Fittings, A-475-828. | 2/1/18-1/31/19
Filmag Italia, SpA.
MALAYSIA: Stainless Steel Butt-Weld Pipe Fittings, A-557-809 | 2/1/18—1/31/19
Pantech Stainless & Alloy Industries Sdn. Bhd.
S.P. United Industry Sdn. Bhd.
TSS Pipes Fittings Industries Sdn. Bhd. (also known as TSS Pipe & Fittings Industry Sdn. Bhd.).
REPUBLIC OF KOREA: Certain Cut-To-Length Carbon-Quality Steel Plate, A-580-836 | 2/1/18-1/31/19
BDP International.
Dongkuk Steel Mill Co., Ltd.
Hyundai Steel Company.
Sung Jin Steel Co., Ltd.
REPUBLIC OF KOREA: Large Residential Washers, A-580-868 | 2/1/18-1/31/19
LG Electronics, Inc.
SOCIALIST REPUBLIC OF VIETNAM: Certain Frozen Warmwater Shrimp,²⁰ A-552-802 | 2/1/18-1/31/19
A & CDN Foods Co., Ltd.
Amanda Seafood Co., Ltd.
An Huy B.T Co. Ltd.
Anh Koa Seafood.
Anh Minh Quan Joint Stock Company.
Asia Food Stuffs Import Export Co., Ltd.
Au Vung One Seafood Processing Import & Export Joint Stock Company.
Au Vung Two Seafood Processing Import & Export Joint Stock Company.
B.O.P Company Limited.
B.O.P. Limited Co.
Bac Lieu Fisheries Joint Stock Company.
Bac Lieu Fisheries Joint Stock Company (“Bac Lieu Fis”).
Bac Lieu Fisheries Joint Stock Company (Bac Lieu Fis).
Bac Lieu Fisheries JSC.
Ben Tre Forestry and Aquaproduct Import-Export Joint Stock Company (FAQUIMEX).
Ben Tre Forestry and Aquaproduct Import-Export Joint Stock Company (“Faquimex”).
Bentre Aquaproduct Import & Export Joint Stock Company (Aquatex Bentre).
Bentre Aquaproduct Import & Export Joint Stock Company.
Bien Dong Seafood Co., Ltd.
BIM Foods Joint Stock Company.
BIM Seafood Joint Stock Company.
Binh Dong Fisheries Joint Stock Company.
Binh Thuan Import-Export Joint Stock Company (THAIMEX).
C.P. Vietnam Corporation.
Ca Mau Agricultural Products and Foodstuff Imp-Exp Joint Stock Company (Agrimexco Camau).
Ca Mau Frozen Seafood Joint Stock Company (“Seaprimexco Vietnam”).
Ca Mau Seafood Joint Stock Company (“Seaprimexco Vietnam”).
Ca Mau Seafood Joint Stock Company (Seaprimexco Vietnam).
Cadovimex Seafood Import-Export and Processing Joint Stock Company.
Cadovimex Seafood Import-Export and Processing Joint Stock Company (“Cadovimex”).
Cadovimex Seafood Import-Export and Processing Joint Stock Company (Cadovimex).
Cafatex Corporation.
Cai Doi Vam Seafood Import-Export Co. (“CADOVIMEX”).
Cam Ranh Seafoods.
Camau Frozen Seafood Processing Import Export Corporation (Camimex).
Camau Frozen Seafood Processing Import-Export Corporation (“Camimex”).
Camau Seafood and Service Joint Stock Company (“CASES”).
Camau Seafood and Service Joint Stock Company (Cases).
Camau Seafood Processing and Service Joint Stock Corporation (and its affiliates, Kien Giang Branch—Camau Seafood Processing & Service Joint Stock Corporation, collectively “CASES”).
Camau Seafood Processing and Service Joint Stock Corporation (Cases).
Camau Seafood Processing and Service Joint-Stock Corporation, Kien Giang Branch.
Can Tho Import Export Fishery Limited Company (“CAFISH”).
Can Tho Import Export Fishery Limited Company (CAFISH).
Cholimex Food Joint Stock Company.
CJ Cau Tre Foods Joint Stock Company.
CJ Freshway (FIDES Food System Co., Ltd.).
Coastal Fisheries Development Corporation (“COFIDEC”).
Cong Ty Tnhh Thong Thuan (Thong Thuan).
Cty Tnhh Anh Khoa Seafood.
Cuulong Seaproducts Company (“Cuu Long Seapro”).
Cuulong Seaproducts Company (“Cuulong Seapro”).
Cuulong Seaproducts Company (Cuu Long Seapro).
Cuulong Seaproducts Company (Cuulong Seapro).
Danang Seaproducts Import-Export Corporation (SEADANANG).
Dong Do Profo., Ltd.
Dong Hai Seafood Limited Company.
Dong Phuong Seafood Co., Ltd.
Duc Cuong Seafood Trading Co., Ltd.
Fimex VN.
Fine Foods Company (FFC).
Fine Foods Company (FFC) (Ca Mau Foods & Fishery Export Joint Stock Company).
Frozen Seafoods Factory No.32.
Gallant Dachan Seafood Co., Ltd.
Gallant Ocean (Vietnam) Co., Ltd.
Gallant Ocean Viet Nam Co. Ltd.
Green Farms Joint Stock Company.
Green Farms Seafood Joint Stock Company.
Green Farms Seafoods Joint Stock Company.
Ha Cat A International Co., Ltd.
Hai Viet Corporation (“HAVICO”).
Hai Viet Corporation (HAVICO).
Hanh An Trading Service Co., Ltd.
Hanoi Seaproducts Import & Export Joint Stock Corporation (Seaprodex Hanoi).
Hoa Trung Seafood Corporation (HSC).
Hoang Phuong Seafood Factory.
Hong Ngoc Seafood Co., Ltd.
Hung Bang Co., Ltd.
HungHau Agricultural Joint Stock Company.
Huynh Huong Seafood Processing.
Huynh Huong Trading and Import-Export Joint Stock Company.
Investment Commerce Fisheries Corporation (“Incomfish”).
Investment Commerce Fisheries Corporation (Incomfish).
JK Fish Co., Ltd.
Kaiyo Seafood Joint Stock Company.
Khai Minh Trading Investment Corporation.
Khanh Hoa Seafoods Exporting Company (KHASPEXCO).
Khanh Sung Co., Ltd.
Khanh Sung Co., Ltd (“Khanh Sung”).
Khanh Sung Company, Ltd, (“Khanh Sung”).
Kim Anh Co., Ltd.
Kim Anh Co., Ltd. (“Kim Anh”).
Kim Anh Company Limited.
Lam Son Import-Export Foodstuff Company Limited (Lamson Fimexco).
Lam Son Import-Export Foodstuffs Corporation.
Long Toan Frozen Aquatic Products Joint Stock Company.
Minh Bach Seafood Company (Minh Binh Seafood Foods Co., Ltd.).
Minh Bach Seafood Company Limited.
Minh Cuong Seafood Import Export Processing Joint Stock Company (“MC Seafood”).
Minh Cuong Seafood Import-Export Processing (“MC Seafood”).
Minh Hai Export Frozen Seafood Processing Joint-Stock Company (“Minh Hai Jostoco”).
Minh Hai Export Frozen Seafood Processing Joint-Stock Company (Minh Hai Jostoco).
Minh Hai Joint-Stock Seafoods Processing Company.
Minh Hai Joint-Stock Seafoods Processing Company (“Seaprodex Minh Hai”).
Minh Hai Joint-Stock Seafoods Processing Company (Seaprodex Minh Hai).
Minh Phu Seafood Corporation.²¹
My Son Seafoods Factory.
Nam Hai Foodstuff and Export Company Ltd.
Namcan Seaproducts Import Export Joint Stock Company (Seanamico).
New Generation Seafood Joint Stock Company.
New Generation Seafood Joint Stock Company (“New Generation”).
New Wind Seafood Co., Ltd.
NGO BROS Seaproducts Import-Export One Member Company Limited (“NGO BROS Company”).
Ngo Bros Seaproducts Import-Export One Member Company Limited (“Ngo Bros. Co., Ltd.”).
Ngo Bros Seaproducts Import-Export One Member Company Limited (Ngo Bros).
NGO BROS Seaproducts Import-Export One Member Company Limited (NGO BROS).
Ngoc Tri Seafood Joint Stock Company.
Ngoc Tri Seafood Joint Stock Company (“Ngoc Tri”).
Nha Trang Fisheries Joint Stock Company.
Nha Trang Fisheries Joint Stock Company (“Nha Trang Fisco”).
Nha Trang Seafoods.
Nha Trang Seaproduct Company.
Nha Trang Seaproduct Company (and its affiliates NT Seafoods Corporation, Nha Trang Seafoods—F.89 Joint Stock Company, NTSF Seafoods Joint Stock Company (collectively “Nha Trang Seafoods Group”).
Nha Trang Seaproduct Company (Nha Trang Seafoods Group).
NT Seafoods Corporation.
NTSF Seafoods Joint Stock Company.
Nhat Duc Co., Ltd.
Nigico Co., Ltd.
Phu Cuong Jostoco Corp.
Phu Cuong Jostoco Seafood Corporation.
Phu Minh Hung Seafood Joint Stock Company.
Phuong Nam Foodstuff Corp.
Phuong Nam Foodstuff Corp., Ltd.
QNL One Member Co., Ltd.
QNL One Member Co., Ltd. (“QNL”).
Quang Minh Seafood Co., Ltd.
Quang Minh Seafood Co., Ltd. (“Quang Minh”).
Quoc Ai Seafood Processing Import Export Co., Ltd.
Quoc Toan Seafood Processing Factory (Quoc Toan PTE).
Quoc Viet Seaproducts Processing Trade and Import-Export Co., Ltd. (“Quoc Viet Co. Ltd.”).
Quoc Viet Seaproducts Processing Trade and Import-Export Co., Ltd. (Quoc Viet Co., Ltd.).
Quoc Viet Seaproducts Processing Trading and Import-Export Co., Ltd.
Quy Nhon Frozen Seafoods Joint Stock Company.
Saigon Aquatic Product Trading Joint Stock Company (APT Co.).
Saigon Food Joint Stock Company.
Sao Ta Foods Joint Stock Company.
Sao Ta Foods Joint Stock Company (“FIMEX VN”) (and its factory “Sao Ta Seafoods Factory”).
Sao Ta Foods Joint Stock Company (FIMEX VN).
Sao Ta Seafood Factory.
Sea Minh Hai.
Seafood Joint Stock Company No.4.
Seafoods and Foodstuff Factory.
Seaprimexco Vietnam.
Seaprodex Minh Hai.
Seavina Joint Stock Co.
Seavina Joint Stock Company.
Soc Trang Seafood Joint Stock Company (STAPIMEX).
Soc Trang Seafood Joint Stock Company (“STAPIMEX”).
South Ha Tinh Seaproducts Import-Export Joint Stock Company.
Special Aquatic Products Joint Stock Company (SEASPIMEX VIETNAM).
T & P Seafood Company Limited.
Tacvan Frozen Seafood Processing Export Company.
Tacvan Frozen Seafood Processing Export Company (Tacvan Seafoods Co.).
Tacvan Seafoods Company (“TACVAN”).
Tacvan Seafoods Company (TACVAN).
Tai Kim Anh Seafood Joint Stock Corporation.
Tai Kim Anh Seafood Joint Stock Corporation (“TAIKA Seafood Corporation”).
Tai Kim Anh Seafood Joint Stock Corporation (TAIKA Seafood Corporation).
Tai Nguyen Seafood Co., Ltd.
Taika Seafood Corporation.
Tan Phong Phu Seafood Co., Ltd. (“TPP Co., Ltd.”).
Tan Phong Phu Seafood Co., Ltd. (TPP Co. Ltd.).
Tan Thanh Loi Frozen Food Co., Ltd.
Taydo Seafood Enterprise.
Thanh Doan Sea Products Import & Export Processing Joint Stock Company Thadimexco.
Thanh Doan Sea Products Import & Export Processing Joint-Stock Company (THADIMEXCO).
Thien Phu Export Seafood Processing Company Limited.
Thinh Hung Co., Ltd.
Thong Thuan—Cam Ranh Seafood Joint Stock Company.
Thong Thuan Cam Ranh Seafood Joint Stock Company (“T&T Cam Ranh”).
Thong Thuan Cam Ranh Seafood Joint Stock Company (T&T Cam Ranh).
Thong Thuan Company Limited.
Thong Thuan Company Limited (“T&T”).
Thong Thuan Company Limited (T&T).
Thong Thuan Seafood Company Limited.
Thong Thuan—Cam Ranh Seafood Joint Stock Company (T&T Cam Ranh).
Thuan Phuoc Seafoods and Trading Corporation.
Thuan Phuoc Seafoods and Trading Corporation (“Thuan Phuoc Corp”).
Thuan Phuoc Seafoods and Trading Corporation and its separate factories Frozen Seafoods Factory No. 32, Seafoods and Foodstuff Factory, and My Son Seafoods Factory (collectively “Thuan Phuoc Corp.”).
Trang Corporation (Vietnam).
Trang Khan Seafood Co., Ltd.
Trang Khanh Seafood Co., Ltd.
Trang Khanh Seafood Company Limited.
Trong Nhan Seafood Co., Ltd. (“Trong Nhan”).
Trong Nhan Seafood Co., Ltd. (Trong Nhan).
Trong Nhan Seafood Company Limited.
Trung Son Seafood Processing Joint Stock Company.
UTXI Aquatic Products Processing Company.
UTXI Aquatic Products Processing Company (UTXICO).
UTXI Aquatic Products Processing Corporation (“UTXICO”) (and its branch Hoang Phuong Seafood Factory and Hoang Phong Seafood Factory).
UTXI Aquatic Products Processing Corporation (UTXICO).
Viet Asia Foods Co., Ltd.
Viet Foods Co., Ltd.
Viet Foods Co., Ltd. (“Viet Foods”).
Viet Foods Co., Ltd. (Viet Foods).
Viet Hai Seafood Co., Ltd.
Viet Hai Seafood Co., Ltd. (Viet Fish One Co., Ltd.).
Viet Hai Seafood Co., Ltd. aka Vietnam Fish One Co., Ltd. (“Fish One”).
Viet I-Mei Frozen Foods Co. Ltd (“Viet I-Mei”).
Viet I-Mei Frozen Foods Co., Ltd.
Viet Nam Seaproducts—Joint Stock Company.
Viet Phu Foods and Fish Corp.
Viet Shrimp Export Processing Joint Stock Company.
Vietnam Clean Seafood Corporation (“Vina Cleanfood”).
Vietnam Clean Seafood Corporation (Vina Cleanfood).
Vietnam Fish One Co., Ltd.
Vietnam Fish-One Co., Ltd.
Vinh Hoan Corp.
Xi Nghiep Che Bien Thuy Suc San Xuat Kau Cantho.
SOCIALIST REPUBLIC OF VIETNAM: Utility Scale Wind Towers, A-552-814 | 2/1/18-1/31/19
CS Wind Corporation.²²
UBI Tower Sole Member Company Ltd.
Vina Halla Heavy Industries Ltd.
TAIWAN: Crystalline Silicon Photovoltaic Products, A-583-853 | 2/1/18-1/31/19
AU Optronics Corporation.
Baoding Jiasheng Photovoltaic Technology Co. Ltd.
Baoding Tianwei Yingli New Energy Resources Co., Ltd.
Beijing Tianneng Yingli New Energy Resources Co. Ltd.
Boviet Solar Technology Co., Ltd.
Canadian Solar Inc.
Canadian Solar International Limited.
Canadian Solar International, Ltd.
Canadian Solar Manufacturing (Changshu), Inc.
Canadian Solar Manufacturing (Luoyang), Inc.
Canadian Solar Solution Inc.
Canadian Solar Solutions Inc.
EEPV CORP.
EEPV Corp.
E-TON Solar Tech. Co., Ltd.
Gintech Energy Corporation.
Hainan Yingli New Energy Resources Co., Ltd.
Hengshui Yingli New Energy Resources Co., Ltd.
Inventec Energy Corporation.
Inventec Solar Energy Corporation.
KOOTATU Tech. Corp.
Kyocera Mexicana S.A. de C.V.
Lixian Yingli New Energy Resources Co., Ltd.
Lof Solar Corp.
Mega Sunergy Co., Ltd.
Ming Hwei Energy Co., Ltd.
Motech Industries, Inc.
Neo Solar Power Corporation.
Shenzhen Yingli New Energy Resources Co., Ltd.
Sino-American Silicon Products Inc.
Solartech Energy Corporation.
Sunengine Corporation Ltd.
Sunrise Global Solar Energy.
Tianjin Yingli New Energy Resources Co., Ltd.
TSEC Corporation.
United Renewable Energy Co., Ltd.
Vina Solar Technology Co., Ltd.
Win Win Precision Technology Co., Ltd.
Yingli Energy (China) Co., Ltd.
Yingli Green Energy International Trading Company Limited.
THAILAND: Frozen Warmwater Shrimp, A-549-822 | 2/1/18-1/31/19
A Foods 1991 Co., Limited/May Ao Foods Co., Ltd.²³
A.Wattanachai Frozen Products Co., Ltd.
A.P. Frozen Foods Co., Ltd.
A.S. Intermarine Foods Co., Ltd.
ACU Transport Co., Ltd.
Ampai Frozen Food Co., Ltd.
Anglo-Siam Seafoods Co., Ltd.
Apex Maritime (Thailand) Co., Ltd.
Apitoon Enterprise Industry Co., Ltd.
Applied DB.
Asia Pacific (Thailand) Co., Ltd.
Asian Alliance International Co., Ltd.
Asian Seafoods Coldstorage (Sriracha).
Asian Seafoods Coldstorage (Suratthani) Co., Limited.
Asian Seafoods Coldstorage PLC.
Asian Seafoods Coldstorage Public Co. Ltd.
Assoc. Commercial Systems.
B.S.A. Food Products Co., Ltd.
Bangkok Dehydrated Marine Product Co., Ltd.
Bright Sea Co., Ltd.
C P MDSE.
C Y Frozen Food Co., Ltd.
C.P. Intertrade Co. Ltd.
Calsonic Kansei (Thailand) Co., Ltd.
Century Industries Co., Ltd.
Chaivaree Marine Products Co., Ltd.
Charoen Pokphand Petrochemical Co., Ltd.
Chonburi LC.
Chue Eie Mong Eak Ltd. Part.
Commonwealth Trading Co, Ltd.
Core Seafood Processing Co., Ltd.
CP Merchandising Co., Ltd./Charoen Pokphand Foods Public Co., Ltd.²⁴
CP Retailing and Marketing Co., Ltd.
CPF Food Products Co., Ltd.
Crystal Frozen Foods Co., Ltd.
Crystal Seafood.
Daedong (Thailand) Co., Ltd.
Daiei Taigen (Thailand) Co., Ltd.
Daiho (Thailand) Co., Ltd.
Dynamic Intertransport Co., Ltd.
Earth Food Manufacturing Co., Ltd.
F.A.I.T. Corporation Limited.
Far East Cold Storage Co., Ltd.
Findus (Thailand) Ltd.
Fortune Frozen Foods (Thailand) Co., Ltd.
Frozen Marine Products Co., Ltd.
Gallant Ocean (Thailand) Co., Ltd.
Gallant Seafoods Corporation.
Global Maharaja Co., Ltd.
Golden Sea Frozen Foods Co., Ltd.
Golden Seafood International Co., Ltd.
Golden Thai Imp. & Exp. Co., Ltd.
Good Fortune Cold Storage Ltd.
Good Luck Product Co., Ltd.
Grobest Frozen Foods Co., Ltd.
Gulf Coast Crab Intl.
H.A.M. International Co., Ltd.
Haitai Seafood Co., Ltd.
Handy International (Thailand) Co., Ltd.
Heng Seafood Limited Partnership.
Heritrade Co., Ltd.
HIC (Thailand) Co., Ltd.
High Way International Co., Ltd.
I.S.A. Value Co., Ltd.
I.T. Foods Industries Co., Ltd.
Inter-Oceanic Resources Co., Ltd.
Inter Pacific Marine Products Co., Ltd.
K & U Enterprise Co., Ltd.
K Fresh.
K.D. Trading Co., Ltd.
K.L. Cold Storage Co., Ltd.
KF Foods Ltd.
Kiang Huat Sea Gull Trading Frozen Food Public Co., Ltd.
Kibun Trdg.
Kingfisher Holdings Limited/KF Foods Limited.²⁵
Kitchens of The Oceans (Thailand) Ltd.
Klang Co., Ltd.
Kongphop Frozen Foods Co., Ltd.
Lee Heng Seafood Co., Ltd.
Leo Transports.
Li-Thai Frozen Foods Co., Ltd.
Lucky Union Foods Co., Ltd.
Magnate & Syndicate Co., Ltd.
Mahachai Food Processing Co., Ltd.
Mahachai Marine Foods Co., Ltd.
Marine Gold Products Ltd.²⁶
Merit Asia Foodstuff Co., Ltd.
Merkur Co., Ltd.
Ming Chao Ind Thailand.
N&N Foods Co., Ltd.
N.R. Instant Produce Co., Ltd.
Namprik Maesri Ltd. Part.
Narong Seafood Co., Ltd.
Nongmon SMJ Products.
Ongkorn Cold Storage Co., Ltd/Thai-Ger Marine Co.²⁷
Pacific Fish Processing Co., Ltd.
Pacific Queen Co., Ltd.
Pakpanang Coldstorage Public Co., Ltd.
Penta Impex Co., Ltd.
Pinwood Nineteen Ninety Nine.
Piti Seafood Co., Ltd.
Premier Frozen Products Co., Ltd.
Preserved Food Specialty Co., Ltd.
Queen Marine Food Co., Ltd.
Rayong Coldstorage (1987) Co., Ltd.
S&D Marine Products Co., Ltd.
S&P Aquarium.
S&P Syndicate Public Company Ltd.
S. Chaivaree Cold Storage Co., Ltd.
S. Khonkaen Food Industry Public Co., Ltd.
S.K. Foods (Thailand) Public Co., Limited.
S2K Marine Product Co., Ltd.
Samui Foods Company Limited.
SB Inter Food Co., Ltd.
SCT Co., Ltd.
Sea Bonanza Food Co., Ltd.
SEA NT'L CO., LTD.
Seafresh Industry Public Co., Ltd./Seafresh Fisheries.²⁸
Seafoods Enterprise Co., Ltd.
Search and Serve.
Sethachon Co., Ltd.
Shianlin Bangkok Co., Ltd.
Shing Fu Seaproducts Development Co.
Siam Food Supply Co., Ltd.
Siam Haitian Frozen Food Co., Ltd.
Siam Intersea Co., Ltd.
Siam Marine Products Co., Ltd.
Siam Ocean Frozen Foods Co., Ltd.
Siam Union Frozen Foods.
Siamchai International Food Co., Ltd.
Smile Heart Foods.
SMP Food Product Co., Ltd.
Southport Seafood.
Star Frozen Foods Co., Ltd.
Starfoods Industries Co., Ltd.
STC Foodpak Ltd.
Suntechthai Intertrading Co., Ltd.
Surapon Foods Public Co., Ltd./Surat Seafoods Public Co., Ltd.²⁹
Surapon Nichirei Foods Co., Ltd.
Suratthani Marine Products Co., Ltd.
Suree Interfoods Co., Ltd.
T.S.F. Seafood Co., Ltd.
Tep Kinsho Foods Co., Ltd.
Teppitak Seafood Co., Ltd.
Tey Seng Cold Storage Co., Ltd./Chaiwarut Co., Ltd.³⁰
Thai Agri Foods Public Co., Ltd.
Thai Hanjin Logistics Co., Ltd.
Thai Mahachai Seafood Products Co., Ltd.
Thai Ocean Venture Co., Ltd.
Thai Pak Exports Co., Ltd.
Thai Patana Frozen.
Thai Prawn Culture Center Co., Ltd.
Thai Royal Frozen Food Co., Ltd.
Thai Spring Fish Co., Ltd.
Thai Union Group Public Co. Ltd./Thai Union Seafood Co., Ltd./Pakfood Public Co., Ltd./Asia Pacific (Thailand) Co., Ltd./Chaophraya Cold Storage Co., Ltd./Okeanos Co., Ltd./Okeanos Food Co., Ltd./Taksin Samut Co., Ltd.³¹
Thai Union Manufacturing Company Limited.
Thai World Import and Export Co., Ltd.
Thai Yoo Ltd., Part.
The Siam Union Frozen Foods Co., Ltd.
The Union Frozen Products Co., Ltd/Bright Sea Co., Ltd.³²
Top Product Food Co., Ltd.
Trang Seafood Products Public Co., Ltd.
Transamut Food Co., Ltd.
Tung Lieng Tradg.
United Cold Storage Co., Ltd.
V Thai Food Product.
Wann Fisheries Co., Ltd.
Xian-Ning Seafood Co., Ltd.
Yeenin Frozen Foods Co., Ltd.
ZAFCO TRDG.
THE PEOPLE'S REPUBLIC OF CHINA: Certain Frozen Warmwater Shrimp, A-570-893 | 2/1/18-1/31/19
Allied Pacific (HK) Co., Ltd.³³.
Allied Pacific Aquatic Products (Zhanjiang) Co., Ltd.
Allied Pacific Food (Dalian) Co., Ltd.
Asian Seafoods (Zhanjiang) Co., Ltd.
Beihai Anbang Seafood Co., Ltd.
Beihai Boston Frozen Food Co., Ltd.
Beihai Tianwei Aquatic Food Co. Ltd.
Changli Luquan Aquatic Products Co., Ltd.
Dalian Beauty Seafood Company Ltd.
Dalian Haiqing Food Co., Ltd.
Dalian Hengtai Foods Co., Ltd.
Dalian Home Sea International Trading Co., Ltd.
Dalian Rich Enterprise Group Co., Ltd.
Dalian Philica Supply Chain Management Co., Ltd.
Dalian Shanhai Seafood Co., Ltd.
Dalian Sunrise Foodstuffs Co., Ltd.
Dalian Taiyang Aquatic Products Co., Ltd.
Dandong Taihong Foodstuff Co., Ltd.
Dongwei Aquatic Products (Zhangzhou) Co., Ltd.
Food Processing Co., Ltd.
Fujian Chaohui Aquatic Food Co., Ltd.
Fujian Chaohui Group.
Fujian Chaohui International Trading Co., Ltd.
Fujian Dongshan County Shunfa Aquatic Product Co., Ltd.
Fujian Dongwei Food Co., Ltd.
Fujian Dongya Aquatic Products Co., Ltd.
Fujian Fuding Seagull Fishing Food Co., Ltd.
Fujian Hainason Trading Co., Ltd.
Fujian Haohui Import & Export Co., Ltd.
Fujian Hongao Trade Development Co.
Fujian R & J Group Ltd.
Fujian Rongjiang Import and Export Co., Ltd.
Fujian Zhaoan Haili Aquatic Co., Ltd.
Fuqing Chaohui Aquatic Food Co., Ltd.
Fuqing Dongwei Aquatic Products Ind.
Fuqing Dongwei Aquatic Products Industry Co., Ltd.
Fuqing Longhua Aquatic Food Co., Ltd.
Fuqing Minhua Trade Co., Ltd.
Fuqing Yihua Aquatic Food Co., Ltd.
Gallant Ocean Group.
Guangdong Foodstuffs Import & Export (Group) Corporation.
Guangdong Gourmet Aquatic Products Co., Ltd.
Guangdong Jinhang Food Co., Ltd.
Guangdong Rainbow Aquatic Development.
Guangdong Universal Aquatic Food Co. Ltd.
Guangdong Wanshida Holding Corp.
Guangdong Wanya Foods Fty. Co., Ltd.
HaiLi Aquatic Product Co., Ltd. Zhaoan Fujian.
Hainan Brich Aquatic Products Co., Ltd.
Hainan Golden Spring Foods Co., Ltd.
Huazhou Xinhai Aquatic Products Co. Ltd.
Leizhou Bei Bu Wan Sea Products Co., Ltd.
Longhai Gelin Foods Co., Ltd.
Maoming Xinzhou Seafood Co., Ltd.
New Continent Foods Co., Ltd.
North Seafood Group Co.
Penglai Huiyang Foodstuff Co., Ltd.
Penglai Yuming Foodstuff Co., Ltd.
Qingdao Fusheng Foodstuffs Co., Ltd.
Qingdao Yihexing Foods Co., Ltd.
Qinhuangdao Gangwan Aquatic Products Co., Ltd.
Rizhao Meijia Keyuan Foods Co. Ltd.
Rizhao Rongxing Co. Ltd.
Rizhao Smart Foods Company Limited.
Rongcheng Yinhai Aquatic Product Co., Ltd.
Rushan Chunjiangyuan Foodstuffs Co.
Rushan Chunjiangyuan Foodstuffs Co., Ltd.
Savvy Seafood Inc.
Shanghai Zhoulian Foods Co., Ltd.
Shantou Freezing Aquatic Product Foodstuffs Co.
Shantou Jiazhou Food Industrial Co., Ltd.
Shantou Jintai Aquatic Product Industrial Co., Ltd.
Shantou Longsheng Aquatic Product Foodstuff Co., Ltd.
Shantou Ocean Best Seafood Corporation.
Shantou Red Garden Food Processing Co., Ltd.
Shantou Red Garden Foodstuff Co., Ltd.³⁴
Shantou Ruiyuan Industry Co., Ltd.
Shantou Wanya Foods Fty. Co., Ltd.
Shantou Yuexing Enterprise Company.
Suizhong Tieshan Food Co., Ltd.
Thai Royal Frozen Food Zhanjiang Co., Ltd.
Xiamen Granda Import and Export Co., Ltd.
Yangjiang Dawu Aquatic Products Co., Ltd.
Yangjiang Guolian Seafood Co., Ltd.
Yangjiang Haina Datong Trading Co.
Yantai Wei Cheng Food Co., Ltd.
Yantai Wei-Cheng Food Co., Ltd.
Zhangzhou Donghao Seafoods Co., Ltd.
Zhangzhou Xinhui Foods Co., Ltd.
Zhangzhou Xinwanya Aquatic Product Co., Ltd.
Zhangzhou Yanfeng Aquatic Product & Foodstuff Co., Ltd.
Zhanjiang Evergreen Aquatic Product Science and Technology Co., Ltd.
Zhanjiang Fuchang Aquatic Products Freezing Plant.
Zhanjiang Guolian Aquatic Products Co., Ltd.³⁵
Zhanjiang Longwei Aquatic Products Industry Co., Ltd.
Zhanjiang Newpro Foods Co., Ltd.
Zhanjiang Regal Integrated Marine Resources Co., Ltd.³⁶
Zhanjiang Universal Seafood Corp.
Zhaoan Yangli Aquatic Co., Ltd.
Zhejiang Xinwang Foodstuffs Co., Ltd.
Zhoushan Genho Food Co., Ltd.
Zhoushan Green Food Co., Ltd.
THE PEOPLE'S REPUBLIC OF CHINA: Crystalline Silicon Photovoltaic Products, A-570-010 | 2/1/18-1/31/19
BYD (Shangluo) Industrial Co., Ltd.
Changzhou Trina Solar Energy Co., Ltd./Trina Solar (Changzhou) Science and Technology Co., Ltd./Yangcheng Trina Solar Energy Co., Ltd./Turpan Trina Solar Energy Co., Ltd./Hubei Trina Solar Energy Co., Ltd.
Chint Solar (Zhejiang) Co., Ltd.
Hefei JA Solar Technology Co., Ltd.
Perlight Solar Co., Ltd.
Shanghai BYD Co., Ltd.
Shenzhen Letsolar Technology Co., Ltd.
Shenzhen Portable Electronic Technology Co., Ltd.
Shenzhen Sungold Solar Co., Ltd.
Sol-lite Manufacturing Company Limited.
Sunny Apex DeveloPment Ltd.
Wuxi Suntech Power Co., Ltd.
THE PEOPLE'S REPUBLIC OF CHINA: Multilayered Wood Flooring, A-570-970 | 12/1/17-11/30/18
Armstrong Wood Products (Kunshan) Co., Ltd.³⁷
Dunhua City Jisen Wood Industry Co., Ltd.³⁸
Fine Furniture (Shanghai) Limited and Double F Limited.³⁹
Baroque Timber Industries (Zhongshan) Co., Ltd.⁴⁰
Dalian Guhua Wooden Product Co., Ltd.
Dalian Huilong Wooden Products Co., Ltd.
Fusong Qianqiu Wooden Product Co., Ltd.
Hangzhou Hanje Tec Company Limited.
Jiafeng Wood (Suzhou) Co., Ltd.
Power Dekor Group Co., Ltd.
Scholar Home (Shanghai) New Material Co., Ltd.
THE PEOPLE'S REPUBLIC OF CHINA: Small Diameter Graphite Electrodes, A-570-929 | 2/1/18-1/31/19
5-Continent Imp. & Exp. Co., Ltd.
Acclcarbon Co., Ltd.
Allied Carbon (China) Co., Limited.
Anssen Metallurgy Group Co., Ltd. (aka AMGL).
Apex Maritime (Dalian) Co., Ltd.
Asahi Fine Carbon (Dalian) Co., Ltd.
Assi Steel Co. Ltd.
Beijing Fangda Carbon Tech Co., Ltd.
Beijing International Trade Co., Ltd.
Beijing Kang Jie Kong Cargo Agent Expeditors (Tianjin Branch).
Beijing Shougang Huaxia International Trade Co. Ltd.
Beijing Xinchengze Inc.
Beijing Xincheng Sci-Tech. Development Inc.
Brilliant Charter Limited.
Carbon International.
Chang Cheng Chang Electrode Co., Ltd.
Chengde Longhe Carbon Factory.
Chengdelh Carbonaceous Elements Factory.
Chengdu Jia Tang Corp.
Chengdu Rongguang Carbon Co. Ltd.
China Carbon Graphite Group Inc.
China Industrial Mineral & Metals Group.
China Shaanxi Richbond Imp. & Exp. Industrial Corp. Ltd.
China Xingyong Carbon Co., Ltd.
CIMM Group Co., Ltd.
Dalian Carbon & Graphite Corporation.
Dalian Hongrui Carbon Co., Ltd.
Dalian Honest International Trade Co., Ltd.
Dalian Horton International Trading Co., Ltd.
Dalian LST Metallurgy Co., Ltd.
Dalian Shuangii Co., Ltd.
Dalian Thrive Metallurgy Imp. & Exp. Co., Ltd.
Dandong Xinxin Carbon Co. Ltd.
Datong Carbon.
Datong Xincheng Carbon Co., Ltd.
Datong Xincheng New Material Co.
Dechang Shida Carbon Co. Ltd (aka Sichuan Dechang Shida Carbon Co., Ltd.).
De Well Container Shipping Corp. (Dewell Group).
Dewell Group.
Dignity Success Investment Trading Co., Ltd.
Double Dragon Metals and Mineral Tools Co., Ltd.
Ever Express Group Ltd.
Fangda Carbon New Material Co., Ltd.
Fangda Lanzhou Carbon Joint Stock Company Co. Ltd. (aka Lanzhou Hailong New Material Co.).
Foset Co., Ltd.
Fushun Carbon Co., Ltd.
Fushun Jinli Petrochemical Carbon Co., Ltd. (Fushun Jinly Petrochemical Carbon Co., Ltd.).
Fushun Oriental Carbon Co., Ltd.
GES (China) Co. Ltd.
GR Industrial Corporation.
Grafworld International Inc.
Gold Success Group Ltd.
Golden Harvest Resources Ltd.
Grameter Shipping Co., Ltd. (Qingdao Branch).
Guangdong Highsun Yongye (Group) Co. Ltd.
Guanghan Shida Carbon Co., Ltd.
Haimen Shuguang Carbon Industry Co. Ltd.
Handan Hanbo Material Co., Ltd.
Hanhong Precision Machinery Co., Ltd.
Hebei Long Great Wall Electrode Co., Ltd.
Hefei Carbon Co., Ltd.
Heico Universal (Shanghai) Distribution Co., Ltd.
Heilongjiang Xinyuan Carbon Co. Ltd.
Henan JLV Graphite Co, Ltd.
Henan Sanli Carbon Products Co., Ltd.
Henan Sihai Import and Export Co., Ltd.
Hohhot Muzi Carbon Trade Co., Ltd.
Hopes (Beijing) International Co., Ltd.
Huanan Carbon Factory.
Hunan Mec Machinery and Electronics Imp. & Exp. Corp.
Hunan Yinguang Carbon Factory Co., Ltd.
Inner Mongolia QingShan Special Graphite and Carbon Co., Ltd.
Inner Mongolia Xinghe County Hongyuan Electrical Carbon Factory.
Intl Resources Business Ltd.
Jiangsu Yafei Carbon Co., Ltd.
Jiaozuo Zhongzhou Carbon Products Co., Ltd.
Jichun International Trade Co., Ltd. of Jilin Province.
Jiexiu Juyuan Carbon Co., Ltd.
Jiexiu Ju-Yuan & Coaly Co., Ltd.
Jilin Carbon Graphite Material Co., Ltd.
Jilin Carbon Import and Export Company.
Jilin Songiiang Carbon Co Ltd.
Jinneng Group Co., Ltd.
Jinyu Thermo-Electric Material Co., Ltd.
JL Group.
JL Carbon Co., Ltd.
Kaifeng Carbon Company Ltd.
KASY Logistics (Tianjin) Co., Ltd.
Kimwan New Carbon Technology and Development Co., Ltd.
Kingstone Industrial Group Ltd.
L & T Group Co., Ltd.
Laishui Long Great Wall Electrode Co. Ltd.
Lanzhou Carbon Co., Ltd.
Lanzhou Carbon Import & Export Corp. (aka Lanzhou Hailong New Material Co.).
Lanzhou Hailong Technology (aka Lanzhou Hailong New Material Co.).
Lanzhou Ruixin Industrial Material Co., Ltd.
Lianxing Carbon Qinghai Co., Ltd.
Lianxing Carbon Science Institute.
Lianxing Carbon (Shandong) Co., Ltd.
Lianyungang Jianglida Mineral Co., Ltd.
Lianyungang Jinli Carbon Co., Ltd.
Liaoning Fenghua Trasteel Industry Co., Ltd.
Liaoyang Carbon Co. Ltd.
Linghai Hongfeng Carbon Products Co., Ltd.
Linyi County Lubei Carbon Co., Ltd.
Maoming Yongye (Group) Co., Ltd.
MBI Beijing International Trade Co., Ltd.
Nantong Dongiin New Energy Co., Ltd.
Nantong Falter New Energy Co., Ltd.
Nantong River-East Carbon Joint Stock Co., Ltd.
Nantong River-East Carbon Co., Ltd.
Nantong Yangtze Carbon Corp. Ltd.
Nantong Yanzi Carbon Co. Ltd.
Oracle Carbon Co., Ltd. (aka Dalian Oracle Carbon Co., Ltd.).
Orient (Dalian) Carbon Resources Developing Co., Ltd.
Orient Star Transport International Ltd.
Oriental Carbon Co. Limited.
Peixian Longxiang Foreign Trade Co. Ltd.
Pudong Trans USA, Inc. (Dalian Office).
Qingdao Grand Graphite Products Co., Ltd.
Qingdao Haosheng Metals Imp. & Exp. Co Ltd.
Quingdao Haosheng Metals & Minerals Imp. & Exp. Co., Ltd.
Qingdao Liyikun Carbon Development Co., Ltd.
Qingdao Likun Graphite Co., Ltd.
Qingdao Ruizhen Carbon Co., Ltd.
Qingdao Yijia E.T.I. I/E Co., Ltd.
Qingdao Youyuan Metallurgy Material Limited Company.
Ray Group Ltd.
Rex International Forwarding Co., Ltd.
Rt Carbon Co., Ltd.
Ruitong Carbon Co., Ltd.
Sangraf Energy Technology Co., Ltd.
Sea Trade International, Inc.
Seamaster Global Forwarding (China).
Shandong Basan Carbon Plant.
Shandong Zibo Continent Carbon Factory.
Shanghai Carbon International Trade Co., Ltd.
Shanghai GC Co., Ltd.
Shanghai Jinneng International Trade Co., Ltd.
Shanghai P.W. International Ltd.
Shanghai Shen-Tech Graphite Material Co., Ltd.
Shanghai Topstate International Trading Co., Ltd.
Shanxi Cimm Donghai Advanced Carbon Co., Ltd.
Shanxi Datong Energy Development Co., Ltd.
Shanxi Foset Carbon Co. Ltd.
Shanxi Jiexiu Import and Export Co., Ltd.
Shanxi Jinneng Group Co., Ltd.
Shanxi Yunheng Graphite Electrode Co., Ltd.
Shenyang Jinli Metals & Minerals Imp. & Exp. Co., Ltd.
Shida Carbon Group.
Shijiazhuang Carbon Co., Ltd.
Shijiazhuang Heijin Trade Co., Ltd.
Shijiazhuang Huanan Carbon Factory.
Sichuan 5-Continent Imp & Exp Co., Ltd.
Sichuan Guanghan Shida Carbon Co., Ltd.
Sichuan Shida Trading Co., Ltd.
Sichuan GMT International Inc.
Sinicway International Logistics Ltd.
Sino Industries Enterprise Ltd.
Sinosteel Anhui Co., Ltd.
Sinosteel Jilin Carbon Co., Ltd.
Sinosteel Jilin Carbon Imp. & Exp. Co. Ltd.
Sinosteel Sichuan Co., Ltd.
SMMC Group Co., Ltd.
Sure Mega (Hong Kong) Ltd.
Tangshan Kimwan Special Carbon & Graphite Co., Ltd.
Tengchong Carbon Co., Ltd.
T.H.I. Global Holdings Corp.
T.H.I. Group (Shanghai), Ltd.
Tianjin (Teda) Iron & Steel Trade Co., Ltd.
Tianjin Kimwan Carbon Technology Development Co., Ltd.
Tianjin Muzi Carbon International.
Tianjin Yue Yang Industrial & Trading Co., Ltd.
Tianzhen Jintian Graphite Electrodes Co., Ltd.
Tielong (Chengdu) Carbon Co., Ltd.
UK Carbon & Graphite.
United Carbon Ltd.
United Trade Resources, Inc.
Weifang Lianxing Carbon Co., Ltd.
World Trade Metals & Minerals Co., Ltd.
XC Carbon Group.
Xinghe County Muzi Carbon Co., Ltd.
Xinghe County Muzi Carbon Plant.
Xinghe Xingyong Carbon Co., Ltd.
Xinghe Xinyuan Carbon Products Co., Ltd.
Xinyuan Carbon Co., Ltd.
Xuanhua Hongli Refractory and Mineral Company.
Xuchang Minmetals & Industry Co., Ltd.
Xuzhou Carbon Co., Ltd.
Xuzhou Electrode Factory.
Xuzhou Jianglong Carbon Products Co., Ltd.
Yangzhou Qionghua Carbon Trading Ltd.
Yixing Huaxin Imp & Exp Co. Ltd.
Youth Industry Co., Ltd.
Zhengzhou Jinyu Thermo-Electric Material Co., Ltd.
Zibo Continent Carbon Factory.
Zibo DuoCheng Trading Co., Ltd.
Zibo Lianxing Carbon Co., Ltd.
Zibo Wuzhou Tanshun Carbon Co., Ltd.
THE PEOPLE'S REPUBLIC OF CHINA: Uncovered Innerspring Units, A-570-928 | 2/1/18-1/31/19
Green Asia Parts, LTD.
Jietai Machinery Ltd. (HK).
THE PEOPLE'S REPUBLIC OF CHINA: Utility Scale Wind Towers, A-570-981 | 2/1/18-1/31/19
Alstom Sizhou Electric Power Equipment Co., Ltd.
AUSKY (Shandong) Machinery Manufacturing Co., Ltd.
AVIC International Renewable Energy Co., Ltd.
Baotou Titan Wind Power Equipment Co., Ltd.
Bashi Yuexin Logistics Development Co., Ltd.
CATIC International Trade & Economic Development Ltd.
Chengde Tianbao Machinery Co., Ltd.
Chengxi Shipyard Co., Ltd.
China WindPower Group.
CleanTech Innovations Inc.
CNR Wind Turbine Co., Ltd.
CS Wind China Co., Ltd.
CS Wind Corporation.
CS Wind Tech (Shanghai) Co., Ltd.
Dajin Heavy Industry Corporation.
Greenergy Technology Co., Ltd.
Guangdong No. 2 Hydropower Engineering Co., Ltd.
Guodian United Power Technology Baoding Co., Ltd.
Harbin Hongguang Boiler Group Co., Ltd.
Hebei Ningqiang Group.
Hebei Qiangsheng Wind Equipment Co., Ltd.
Jiangsu Baolong Electromechanical Mfg. Co., Ltd.
Jiangsu Baolong Tower Tube Manufacture Co., Ltd.
Jiangsu Taihu Boiler Co., Ltd.
Jiangyin Hengrun Ring Farging Co., Ltd.
Jilin Miracle Equipment Manufacturing Engineering Co., Ltd.
Jilin Tianhe Wind Power Equipment Co., Ltd.
Jinan Railway Vehicles Equipment Co., Ltd.
Nanjing Jiangbiao Group Co., Ltd.
Nantong Dongtai New Energy Equipment Co., Ltd.
Nantong Hongbo Windpower Equipment Co., Ltd.
Ningxia Electric Power Group.
Ningxia Yinxing Energy Co.
Ningxia Yinyi Wind Power Generation Co., Ltd.
Qingdao GeLinTe Environmental Protection Equipment Co., Ltd.
Qingdao Ocean Group.
Qingdao Pingcheng Steel Structure Co., Ltd.
Qingdao Tianneng Electric Power Engineering Machinery Co., Ltd.
Qingdao Wuxiao Group Co., Ltd.
Renewable Energy Asia Group Ltd.
SDV China Nanjing.
Shandong Endless Wind Turbine Technical Equipment Co., Ltd.
Shandong Iraeta Heavy Industry.
Shandong Zhongkai Wind Power Equipment Manufacturers, Ltd.
Shanghai Aerotech Trading International.
Shanghai GE Guangdian Co., Ltd.
Shanghai Taisheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy (Suzhou) Co., Ltd.
Vestas Wind Technology (China).
Wuxiao Steel Tower Co., Ltd.
Xinjiang Huitong (Group) Co., Ltd.
Zhangjiagang Zhiyi Medical Health.
Countervailing Duty Proceedings
INDIA: Cold-Drawn Mechanical Tubing, C-533-874 | 9/25/17-12/31/18
Automotive Steel Pipe.
Bhushan Steel Ltd.
Good Luck India Limited.
Good Luck Industries.
Hyundai Steel Pipe India Pvt., Ltd.
Innoventive Industries.
ISMT Limited.
Jindal (India) Ltd.
Jindal Saw Ltd.
Pennar Industries, Inc.
Sandvik Asia Pvt., Ltd.
Tata Steel BSL Limited.
Tube Investments of India Ltd.
Tube Products of India.
REPUBLIC OF KOREA: Certain Cut-To-Length Carbon-Quality Steel Plate, C-580-837 | 1/1/18-12/31/18
BDP International.
Dongkuk Steel Mill Co., Ltd.
Hyundai Steel Co., Ltd.
Hyundai Steel Company.
Sung Jin Steel Co., Ltd.
THE PEOPLE'S REPUBLIC OF CHINA: Cold-Drawn Mechanical Tubing, C-570-059 | 9/25/17-12/31/18
Anji Pengda Steel Pipe Co., Ltd.
Changshu Fushilai Steel Pipe Co., Ltd.
Changshu Special Shaped Steel Tube Co., Ltd.
Hebei Changfeng Steel Tube Mfg.
Hubei Xinyegang Steel Co., Ltd.
Jiangsu Liwan Precision Tube Manufacturing Co., Ltd.
Jiangsu Hongyi Steel Pipe Co., Ltd.
Jiangsu Huacheng Industry Pipe Making Corporation.
Zhangjiagang Salem Fine Tubing Co., Ltd.
Suzhou Baojia New Energy Technology Co., Ltd.
Suzhou Foster International Co., Ltd.
Wuxi Dajin High-Precision Cold-Drawn Steel Tube Co., Ltd.
Wuxi P&C Machinery Co., Ltd.
Yangzhou Lontrin Steel Tube Co., Ltd.
Zhangjiagang Huacheng Import & Export Co., Ltd.
Zhangjiagang Shengdingyuan Pipe-Making Co., Ltd.
Zheiiang Minghe Steel Pipe Co., Ltd.
Zhejiang Dingxin Steel Tube Manufacturing Co., Ltd.
THE PEOPLE'S REPUBLIC OF CHINA: Crystalline Silicon Photovoltaic Products, C-570-011 | 1/1/18-12/31/18
Changzhou Trina Solar Energy Co., Ltd.
Chint Solar (Zhejiang) Co., Ltd.
Hefei JA Solar Technology Co., Ltd.
Ri Shen Products (SZ) Ltd.
Risen Energy Co., Ltd.
Shanghai JA Solar Technology Co., Ltd.
Shenzhen Letsolar Technology Co., Ltd.
Shenzhen Portable Electronic Technology Co., Ltd.
Shenzhen Sungold Solar Co., Ltd.
Sol-lite Manufacturing Company Limited.
Sunny Apex Development Ltd.
Trina Solar (Changzhou) Science & Technology Co., Ltd.
THE PEOPLE'S REPUBLIC OF CHINA: Tool Chests and Cabinets,⁴¹ C-570-057 | 9/15/17-12/31/18
THE PEOPLE'S REPUBLIC OF CHINA: Utility Scale Wind Towers, C-570-982 | 1/1/18-12/31/18
Alstom Sizhou Electric Power Equipment Co., Ltd.
AUSKY (Shandong) Machinery Manufacturing Co., Ltd.
AVIC International Renewable Energy Co., Ltd.
Baotou Titan Wind Power Equipment Co., Ltd.
Bashi Yuexin Logistics Development Co., Ltd.
CATIC International Trade & Economic Development Ltd.
Chengde Tianbao Machinery Co., Ltd.
Chengxi Shipyard Co., Ltd.
China WindPower Group.
CleanTech Innovations Inc.
CNR Wind Turbine Co., Ltd.
CS Wind China Co., Ltd.
CS Wind Corporation.
CS Wind Tech (Shanghai) Co., Ltd.
Dajin Heavy Industry Corporation.
Greenergy Technology Co., Ltd.
Guangdong No.2 Hydropower Engineering Co., Ltd.
Guodian United Power Technology Baoding Co., Ltd.
Harbin Hongguang Boiler Group Co., Ltd.
Hebei Ningqiang Group.
Hebei Qiangsheng Wind Equipment Co., Ltd.
Jiangsu Baolong Electromechanical Mfg. Co., Ltd.
Jiangsu Baolong Tower Tube Manufacture Co., Ltd.
Jiangsu Taihu Boiler Co., Ltd.
Jiangyin Hengrun Ring Farging Co., Ltd.
Jilin Miracle Equipment Manufacturing Engineering Co., Ltd.
Jilin Tianhe Wind Power Equipment Co., Ltd.
Jinan Railway Vehicles Equipment Co., Ltd.
Nanjing Jiangbiao Group Co., Ltd.
Nantong Dongtai New Energy Equipment Co., Ltd.
Nantong Hongbo Windpower Equipment Co., Ltd.
Ningxia Electric Power Group.
Ningxia Yinxing Energy Co.
Ningxia Yinyi Wind Power Generation Co., Ltd.
Qingdao GeLinTe Environmental Protection Equipment Co., Ltd.
Qingdao Ocean Group.
Qingdao Pingcheng Steel Structure Co., Ltd.
Qingdao Tianneng Electric Power Engineering Machinery Co., Ltd.
Qingdao Wuxiao Group Co., Ltd.
Renewable Energy Asia Group Ltd.
SDV China Nanjing.
Shandong Endless Wind Turbine Technical Equipment Co., Ltd.
Shandong lraeta Heavy Industry.
Shandong Zhongkai Wind Power Equipment Manufacturers, Ltd.
Shanghai Aerotech Trading International.
Shanghai GE Guangdian Co., Ltd.
Shanghai Taisheng Wind Power Equipment Co., Ltd.
Shenyang Titan Metal Co., Ltd.
Sinovel Wind Group Co., Ltd.
Suihua Wuxiao Electric Power Equipment Co., Ltd.
Titan (Lianyungang) Metal Product Co., Ltd.
Titan Wind Energy (Suzhou) Co., Ltd.
Vestas Wind Technology (China).
Wuxiao Steel Tower Co., Ltd.
Xinjiang Huitong (Group) Co., Ltd.
Zhangjiagang Zhiyi Medical Health.
THE PEOPLE'S REPUBLIC OF CHINA: Hardwood Plywood Products,⁴² C-570-052 | 4/25/17-12/31/18
Cosco Star International Co., Ltd.
Happy Wood Industrial Group Co., Ltd.
Jiangsu High Hope Arser Co., Ltd.
Jiangsu Sunwell Cabinetry Co., Ltd.
Lianyungang Yuantai International Trade Co., Ltd.
Linyi Bomei Furniture Co., Ltd.
Linyi Dahua Wood Co., Ltd.
Pingyi Jinniu Wood Co., Ltd.
Qingdao Top P&Q International Corp.
SAICG International Trading Co., Ltd.
Shandong Huaxin Jiasheng Wood Co., Ltd.
Shandong Jinhua International Trading Co., Ltd.
Suzhou Fengshuwan Import and Export Trade Co., Ltd. (aka Suzhou Fengshuwan I&E Trade Co., Ltd.).
Vietnam Finewood Company Limited.⁴³
Xuzhou Amish Import & Export Co., Ltd.
Xuzhou Jiangyang Wood Industries Co., Ltd.

Suspension Agreements

⁵ In past reviews, Commerce has treated these companies as a single entity. See, e.g., Certain Frozen Warmwater Shrimp from India: Final Results of Antidumping Duty Administrative Review; 2016-2017, 83 FR 32835 (July 16, 2018) (2016-2017 AR Final). Absent information to the contrary, we intend to continue to treat these companies as a single entity for purposes of this administrative review.

⁶ On December 11, 2012, Apex Frozen Foods Private Limited was found to be the successor-in-interest to Apex Exports. See Final Results of Antidumping Duty Changed Circumstances Review: Certain Frozen Warmwater Shrimp from India, 77 FR 73619 (December 11, 2012). Therefore, we have not initiated a separate administrative review with respect to Apex Exports.

⁷ In past reviews, Commerce has treated these companies as a single entity. See, e.g., 2016-2017 AR Final. Absent information to the contrary, we intend to continue to treat these companies as a single entity for purposes of this administrative review.

⁸ On December 15, 2016, Avanti Frozen Foods Private Limited was found to be the successor-in-interest to Avanti Feeds Limited. See Notice of Final Results of Antidumping Duty Changed Circumstances Review: Certain Frozen Warmwater Shrimp from India, 81 FR 90774 (December 15, 2016). Therefore, we have not initiated a separate administrative review with respect to Avanti Feeds Limited.

⁹ In the 2017-2018 administrative review of this order, Commerce preliminarily determined it was appropriate to treat the following companies as a single entity: Calcutta Seafoods Pvt. Ltd., Bay Seafood Pvt. Ltd., and Elque & Co (Elque). See Certain Frozen Warmwater Shrimp from India: Preliminary Results of Antidumping Duty Administrative Review; 2017-2018, issued on April 9, 2019. If this finding becomes final, we intend also to treat these companies as a single entity for purposes of this administrative review. Otherwise, Commerce will rescind the review with respect to Elque because no party has requested review of this individual entity.

¹⁰ On October 3, 2018, Coastal Aqua Private Limited was found to be the successor-in-interest to Coastal Aqua. See Certain Frozen Warmwater Shrimp from India: Notice of Final Results of Antidumping Duty Changed Circumstances Review, 83 FR 49909 (October 3, 2018). Because the effective date of this determination is during the current POR, we have included both exports from Coastal Aqua and Coastal Aqua Private Limited in this review.

¹¹ In past reviews, Commerce has treated these companies as a single entity. See, e.g., 2016-2017 AR Final. Absent information to the contrary, we intend to continue to treat these companies as a single entity for purposes of this administrative review.

¹² In past reviews, Commerce has treated these companies as a single entity. Id. Absent information to the contrary, we intend to continue to treat these companies as a single entity for purposes of this administrative review. Additionally, on December 2, 2014, Premier Marine Products Private Limited was found to be the successor-in-interest to Premier Marine Products. See Notice of Final Results of Antidumping Duty Changed Circumstances Review: Certain Frozen Warmwater Shrimp from India, 79 FR 71384 (December 2, 2014).

¹³ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

¹⁴ In past reviews, Commerce has treated these companies as a single entity. See, e.g., 2016-2017 AR Final. Absent information to the contrary, we intend to continue to treat these companies as a single entity for purposes of this administrative review.

¹⁵ In past reviews, Commerce has treated these companies as a single entity. Id. Absent information to the contrary, we intend to continue to treat these companies as a single entity for purposes of this administrative review.

¹⁶ In the 2017-2018 administrative review of this order, Commerce preliminarily determined it was appropriate to treat Magnum Sea Foods Limited and Magnum Estates Limited as a single entity. See Certain Frozen Warmwater Shrimp from India: Preliminary Results of Antidumping Duty Administrative Review; 2017-2018, issued on April 9, 2019. If this finding becomes final, we intend also to treat these companies as a single entity for purposes of this administrative review.

¹⁷ In past reviews, Commerce has treated these companies as a single entity. See, e.g., 2016-2017 AR Final. Absent information to the contrary, we intend to continue to treat these companies as a single entity for purposes of this administrative review.

¹⁸ On August 27, 2010, Srikanth International was found to be the successor-in-interest to NGR Aqua International. See Certain Warmwater Shrimp from India: Final Results of Antidumping Duty Changed Circumstances Review, 75 FR 52718 (August 27, 2010). Therefore, we have not initiated a separate administrative review with respect to NGR Aqua International.

¹⁹ On December 26, 2018, Commerce initiated a changed circumstances review to determine whether Sunrise Seafoods India Private Limited is the successor in interest to Sunrise Aqua Food Exports. See Certain Frozen Warmwater Shrimp from India: Initiation of Antidumping Duty Changed Circumstances Review, 83 FR 66244 (December 26, 2018).

²⁰ Where multiple interested parties requested an administrative review of the same companies and requested those company names with identical spelling and punctuation, Commerce listed the name only once to prevent redundancy and administrative burden.

²¹ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

²² On February 26, 2019, Commerce received a request for an administrative review of CS Wind Corporation, among other companies. See Wind Tower Trade Coalition Letter, “Utility Scale Wind Towers from the Socialist Republic of Vietnam: Request for Administrative Review,” dated February 28, 2018. In the investigation of this proceeding, Commerce determined that “CS Wind Vietnam Co., Ltd.,” and “CS Wind Corporation” are a single entity, “The CS Wind Group.” See Utility Scale Wind Towers from the Socialist Republic of Vietnam: Final Determination of Sales at Less Than Fair Value, 77 FR 75984 (December 26, 2012), as amended by Utility Scale Wind Towers from the Socialist Republic of Vietnam: Amended Final Determination of Sales at Less Than Fair Value and Antidumping Duty Order, 78 FR 11150, 11152 (February 15, 2013) (where Commerce stated that “The CS Wind Group consists of CS Wind Vietnam Co., Ltd. and CS Wind Corporation.”). On March 16, 2017, the United States Court of International Trade (CIT) issued its final judgment, sustaining Commerce's final results of redetermination regarding the investigation. See CS Wind Vietnam Co., Ltd., and CS Wind Corporation v. United States, 219 F. Supp. 3d 1273 (CIT 2017). On March 29, 2017, pursuant to that CIT decision, effective March 26, 2017, Commerce excluded from the antidumping duty order wind towers that are produced and exported by The CS Wind Group. See Utility Scale Wind Towers from the Socialist Republic of Vietnam: Notice of Court Decision Not in Harmony with the Final Determination of Less Than Fair Value Investigation and Notice of Amended Final Determination of Investigation, 82 FR 15493 (March 29, 2017). Thus, Commerce is issuing this notice of initiation of the 2018-2019 antidumping duty administrative review of wind towers from Vietnam with respect to the CS Wind Group. Commerce is initiating an administrative review only on entries where CS Wind Group was (1) the producer but not the exporter, or (2) the exporter but not the producer of subject merchandise.

²³ In past reviews, Commerce has treated these companies as a single entity. See, e.g., Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for purposes of this administrative review.

²⁴ In past reviews, Commerce has treated these companies as a single entity. See, e.g., 2015-2016 AR Final. Absent information to the contrary, we intend to continue to treat these companies as a single entity for purposes of this administrative review.

²⁵ In past reviews, Commerce has treated these companies as a single entity. See, e.g., Certain Frozen Warmwater Shrimp from Thailand: Final Results and Final Partial Rescission of Antidumping Duty Administrative Review; 2006-2007, 73 FR 50933 (August 29, 2008) (2006-2007 AR Final). Absent information to the contrary, we intend to continue to treat these companies as a single entity for purposes of this administrative review.

²⁶ Shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). Accordingly, we are initiating this administrative review with respect to Marine Gold only for shrimp produced in Thailand where Marine Gold acted as either the manufacturer or exporter (but not both).

²⁷ In past reviews, Commerce has treated these companies as a single entity. See, e.g., 2015-2016 AR Final. Absent information to the contrary, we intend to continue to treat these companies as a single entity for purposes of this administrative review.

²⁸ In past reviews, Commerce has treated these companies as a single entity. Id. Absent information to the contrary, we intend to continue to treat these companies as a single entity for purposes of this administrative review.

²⁹ In past reviews, Commerce has treated these companies as a single entity. Id. Absent information to the contrary, we intend to continue to treat these companies as a single entity for purposes of this administrative review.

³⁰ In past reviews, Commerce has treated these companies as a single entity. See, e.g., 2006-2007 AR Final. Absent information to the contrary, we intend to continue to treat these companies as a single entity for purposes of this administrative review.

³¹ In past reviews, Commerce has treated these companies as a single entity. See, e.g., 2015-2016 AR Final. Absent information to the contrary, we intend to continue to treat these companies as a single entity for purposes of this administrative review.

³² In past reviews, Commerce has treated these companies as a single entity. Id. Absent information to the contrary, we intend to continue to treat these companies as a single entity for purposes of this administrative review.

³³ This Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for these exporters only with respect to subject merchandise produced by entities other than the aforementioned producers.

³⁴ This Order was revoked with respect to merchandise exported by Shantou Red Garden Foodstuff Co., Ltd., and produced by Red Garden Food Processing Co., Ltd., or Chaoyang Jindu Hengchang Aquatic Products Enterprise Co., Ltd., or Raoping County Longfa Seafoods Co., Ltd., or Meizhou Aquatic Products Quick-Frozen Industry Co., Ltd., or Shantou Jinyuan District Mingfeng Quick-Frozen Factory, or Shantou Long Feng Foodstuffs Co., Ltd. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013). Accordingly, we are initiating this review for this exporter only with respect to subject merchandise produced by entities other than the aforementioned producers.

³⁵ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

³⁶ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

³⁷ Commerce inadvertently initiated an administrative review of entries where Armstrong Wood Products (Kunshan) Co., Ltd. was the producer but not the exporter of subject merchandise. Commerce is only reviewing entries where Armstrong Wood Products (Kunshan) Co., Ltd. was the exporter but not the producer of subject merchandise.

³⁸ Commerce inadvertently initiated an administrative review of entries where Dunhua City Jisen Wood Industry Co., Ltd. was the producer but not the exporter of subject merchandise. Commerce is only reviewing entries where Dunhua City Jisen Wood Industry Co., Ltd. was the exporter but not the producer of subject merchandise.

³⁹ Commerce inadvertently initiated an administrative review of entries where Fine Furniture (Shanghai) Limited was the producer but not the exporter of subject merchandise. Commerce is only reviewing entries where Fine Furniture (Shanghai) Limited and/or Double F Limited was the exporter but Fine Furniture (Shanghai) Limited was not the producer of subject merchandise.

⁴⁰ With respect to Baroque Timber Industries (Zhongshan) Co., Ltd. and the remaining seven companies listed, the names of these companies were inadvertently misspelled and/or incomplete in the initiation notices that published on March 14, 2019 (84 FR 9297), and April 1, 2019 (84 FR 12200).

⁴¹ In the initiation notice that published on April 1, 2019 (84 FR 12200) the POR for the above referenced case was incorrect. The period listed above is the correct POR for this case.

⁴² In the initiation notice that published on April 1, 2019 (84 FR 12200) the POR for this case was incorrect. The period listed here is the correct POR for this case. Moreover, we have amended the list of companies under review by adding the companies listed here, that were inadvertently not included in the April 1, 2009 notice.

⁴³ The initiation notice that published on April 1, 2019 (84 FR 12200) listed this company as Vietnam Pinewood Company Limited, however, the corrected company name appears above.

None.

Duty Absorption Reviews

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant provisional-measures “gap” period, of the order, if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the final rule, available at http://enforcement.trade.gov/frn/2013/1304frn/2013-08227.txt, prior to submitting factual information in this segment.

Any party submitting factual information in an antidumping duty or countervailing duty proceeding must certify to the accuracy and completeness of that information.⁴⁴ Parties are hereby reminded that revised certification requirements are in effect for company/government officials as well as their representatives. All segments of any antidumping duty or countervailing duty proceedings initiated on or after August 16, 2013, should use the formats for the revised certifications provided at the end of the Final Rule.⁴⁵ Commerce intends to reject factual submissions in any proceeding segments if the submitting party does not comply with applicable revised certification requirements.

⁴⁴ See section 782(b) of the Act.

⁴⁵ See Certification of Factual Information To Import Administration During Antidumping and Countervailing Duty Proceedings, 78 FR 42678 (July 17, 2013) (Final Rule); see also the frequently asked questions regarding the Final Rule, available at http://enforcement.trade.gov/tlei/notices/factual_info_final_rule_FAQ_07172013.pdf.

Extension of Time Limits Regulation

Parties may request an extension of time limits before a time limit established under Part 351 expires, or as otherwise specified by the Secretary. See 19 CFR 351.302. In general, an extension request will be considered untimely if it is filed after the time limit established under part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This modification also requires that an extension request must be made in a separate, stand-alone submission, and clarifies the circumstances under which Commerce will grant untimely-filed requests for the extension of time limits. These modifications are effective for all segments initiated on or after October 21, 2013. Please review the final rule, available at http://www.gpo.gov/fdsys/pkg/FR-2013-09-20/html/2013-22853.htm, prior to submitting factual information in these segments.

These initiations and this notice are in accordance with section 751(a) of the Act (19 U.S.C. 1675(a)) and 19 CFR 351.221(c)(1)(i).

Dated: April 26, 2019.
Gary Taverman,
Deputy Assistant Secretary for Antidumping and Countervailing Duty Operations.

[FR Doc. 2019-08945 Filed 5-1-19; 8:45 am]

BILLING CODE 3510-DS-P